DEPARTMENT OF COMMERCE

National Oceanic and Atmospheric Administration

[I.D. 081400D]

North Pacific Fishery Management Council; Public Meeting

AGENCY: National Marine Fisheries Service (NMFS), National Oceanic and Atmospheric Administration (NOAA), Commerce.

ACTION: Notice of committee meeting.

SUMMARY: The North Pacific Fishery Management Council's Community Development Quota (CDQ) Committee will meet in Anchorage, AK.

DATES: The meeting will be held on September 22, 2000. The meeting will begin at 9:00 a.m. and conclude by 4:00 p.m. the same day.

ADDRESSES: The meeting will be held at the Westmark Hotel, Penthouse meeting room, 720 West 5th Avenue, Anchorage, AK.

Council address: North Pacific Fishery Management Council, 605 W. 4th Ave., Suite 306, Anchorage, AK 99501-2252.

FOR FURTHER INFORMATION CONTACT: Jane DiCosimo, North Pacific Fishery Management Council; 907-271-2809.

SUPPLEMENTARY INFORMATION: The Committee will review a regulatory amendment for changes to the CDQ administrative regulations and, if available, other proposed changes to the regulations. More information on the agenda will be posted on the Council's website (www.fakr.noaa.gov/npfmc) by September 15.

Although non-emergency issues not contained in this agenda may come before this Committee for discussion, in accordance with the Magnuson-Stevens Fishery Conservation and Management Act, those issues may not be the subject of formal action during this meeting. Action will be restricted to those issues specifically listed in the agenda and any issues arising after publication of this notice the require emergency action under section 305(c) of the Magnuson-Stevens Act, provided the public has been notified of the Council's intent to take final action to address the emergency.

Special Accommodations

These meetings are physically accessible to people with disabilities. Requests for sign language interpretation or other auxiliary aids should be directed to Helen Allen, 907-271-2809, at least 5 working days prior to the meeting date.

Dated: August 15, 2000.
Richard W. Surdi,
Acting Director, Office of Sustainable Fisheries, National Marine Fisheries Service.

[FR Doc. 00-21225 Filed 8-18-00; 8:45 am]

BILLING CODE 3510-22-F